DEPARTMENT OF THE INTERIOR

Bureau of Reclamation

[RR040U2100, XXXR4081X3, RX.05940913.FY19400]

Notice To Reopen the Glen Canyon Dam Adaptive Management Work Group Call for Nominations

AGENCY: Bureau of Reclamation, Interior.

ACTION: Notice to reopen a call for nominations.

SUMMARY: A request for nominations was published by the Department of the Interior in the Federal Register on September 10, 2025, for specific positions on the Glen Canyon Dam Adaptive Management Work Group (AMWG) Federal advisory committee. The nomination period ended on October 27, 2025. This notice reopens the nomination period until January 15, 2026.

DATES: The nomination period for the notice published on September 9, 2025, at 90 FR 43627, is reopened. Nominations for the vacant positions are due on or before January 15, 2026.

ADDRESSES: Send nomination packages to Wayne G. Pullan, Regional Director, U.S. Bureau of Reclamation, 125 South State Street, Room 8100, Salt Lake City, UT 84138, or via email to bor-sha-ucr-gcdamp@usbr.gov.

FOR FURTHER INFORMATION CONTACT: Ms. Kathleen Callister, Acting Designated Federal Officer, at (801) 524-3781, or by email at kcallister@usbr.gov.

SUPPLEMENTARY INFORMATION:

Nomination Process: Nominations should include a resume that provides an adequate description of the nominee's qualifications, particularly information that will enable the Department of the Interior to evaluate the nominee's potential to meet the membership requirements of the AMWG and permit the Department of the Interior to contact a potential member. The Membership Criteria section in the notice published on September 10, 2025 (90 FR 43627), provides specific information to be included in nomination packages.

Authority: 5 U.S.C. Ch. 10.

Wayne G. Pullan,
Regional Director, Interior Region 7: Upper Colorado Basin, Bureau of Reclamation.

[FR Doc. 2025-22231 Filed 12-5-25; 8:45 am]

BILLING CODE 4332-90-P